SOCIAL SECURITY ADMINISTRATION

[Docket No. SSA-2008-0009]

Modifications to the Disability Determination Procedures; Reinstatement of “Prototype” and “Single Decisionmaker” Tests in States in the Boston Region

AGENCY: Social Security Administration (SSA).

ACTION: Notice.

SUMMARY: Effective March 23, 2008, we are reinstating New Hampshire as a “prototype” State in the disability redesign tests we are conducting under the authority of our regulations. We are also reinstating Maine and Vermont as States that use “single decisionmakers” under the same authority. These three States stopped participating in the disability redesign tests on August 1, 2006, when they began to participate in the Disability Service Improvement (DSI) initiative that we have been testing in our Boston region since that date. On January 15, 2008, we published a final rule in the Federal Register suspending the Federal Reviewing Official review level of the DSI process. The final rule will be effective on March 23, 2008. Therefore, Maine, New Hampshire, and Vermont will resume their participation in the disability redesign tests on the effective date of the final rule.

DATES: On March 23, 2008, New Hampshire will resume its participation as a prototype State, and Maine and Vermont will resume their participation as single decisionmaker States. Selection of cases for the current tests is scheduled to end no later than September 30, 2009. (71 FR 45890). We will use the same date for Maine, New Hampshire, and Vermont. If we decide to continue selection of cases for these tests beyond this date in Maine, New Hampshire, Vermont, and the other States that are participating in the tests, we will publish another notice in the Federal Register.

FOR FURTHER INFORMATION CONTACT: Michele Schaefer, Office of Disability Programs, Social Security Administration, 6401 Security Boulevard, Baltimore, MD 21235-6401, 410-594-0083, for information about this notice. For information on eligibility or filing for benefits, call our national toll-free number, 1-800-772-1213 or TTY 1-800-325-0778, or visit our Internet site, Social Security Online, at http://www.socialsecurity.gov.

SUPPLEMENTARY INFORMATION: Our current rules at §§ 404.906 and 416.1406 authorize us to test, individually or in any combination, different modifications to our disability determination procedures. We have conducted several tests under the authority of these rules. One of these tests is a “prototype” that incorporates two modifications to the disability determination procedures that we use:

• A single decisionmaker (SDM), in which disability examiners in the State agencies that make disability determinations for us may make the initial disability determination in most cases without requiring the signature of a medical or psychological consultant, and

• Elimination of the reconsideration level of the administrative review process.

Another test uses SDMs, but keeps the reconsideration level.

Until August 1, 2006, there were 10 States participating in the prototype test: Alabama, Alaska, California (Los Angeles North and West Branches), Colorado, Louisiana, Michigan, Missouri, New Hampshire, New York, and Pennsylvania. Another 10 State agencies participated in the SDM-only test: Florida, Guam, Kansas, Kentucky, Maine, Nevada, North Carolina, Vermont, Washington, and West Virginia. On August 1, 2006, Maine, New Hampshire, and Vermont, which are States in our Boston region, stopped participating in their respective tests because they were among the first States to implement the DSI process.¹ The tests in the other States have continued.

¹ The other States in the Boston region are Connecticut, Massachusetts, and Rhode Island.

On January 15, 2008, we published a final rule entitled, “Suspension of New Claims to the Federal Reviewing Official Review Level” (73 FR 2411).² The Federal Reviewing Official review level was part of the DSI process and replaced the reconsideration level of our administrative review process for cases we adjudicated in the Boston region under the DSI process. As the title of the final rule states, we will be suspending the Federal Reviewing Official process. This means that we will be going back to the same processes we were following before August 1, 2006, whether that process was reconsideration under §§ 404.907 and 416.1407 or the testing procedures under §§ 404.906 and 416.1406. Therefore, as of the effective date of the final rule suspending the FedRO process:

² In the notice we published on January 15, 2008, we stated that the effective date of the final rule would be March 15, 2008. However, on February 27, 2008, we published a correction notice in the Federal Register providing that the effective date would be March 23, 2008 (73 FR 10381).

• New Hampshire will become a prototype State again,

• The first level of appeal in all the other States in the Boston region will be reconsideration by the State agency, and

• Maine and Vermont will use SDMs.

Since the rule suspending the use of the Federal Reviewing Official will be effective on March 23, 2008, that is also the date on which we will make the changes described here in Maine, New Hampshire, and Vermont.

In a Federal Register notice we published on August 10, 2006, we explained that the selection of cases for the current tests is scheduled to end no later than September 30, 2009 (71 FR 45890). We also explained that we may decide to extend the tests, and that, if we do, we will publish another notice in the Federal Register. We are not extending the scheduled ending dates of these tests now, and will use the same date for Maine, New Hampshire, and Vermont that we use for the other States participating in the tests. Therefore, our selection of cases in Maine, New Hampshire, and Vermont will end on or before September 30, 2009, unless we publish another notice in the Federal Register extending the tests.

Dated: March 3, 2008.
Linda S. McMahon,
Deputy Commissioner for Operations.

[FR Doc. E8-4531 Filed 3-6-08; 8:45 am]

BILLING CODE 4191-02-P